FEDERAL COMMUNICATIONS COMMISSION

47 CFR Part 73

[MB Docket No. 24-224; RM-11988; DA 24-1188; FR ID 266282]

Television Broadcasting Services Lubbock, Texas.

AGENCY: Federal Communications Commission.

ACTION: Final rule.

SUMMARY: The Video Division, Media Bureau (Bureau), has before it a Notice of Proposed Rulemaking issued in response to a Petition for Rulemaking filed by Gray Television Licensee, LLC (Gray) and SagamoreHill of Lubbock, LLC (SagamoreHill and collectively, the Petitioners), the licensees of two Lubbock, Texas stations; KCBD, operating on channel 11, and KJTV-TV, operating on channel 35. The Petitioners request amendment of the Table of TV Allotments to substitute channel 11 for channel 35 and channel 35 for channel 36, respectively. The Petitioners filed comments in support of the Petition, as required by the Commission's rules (rules), reaffirming their interest in the proposed channel substitutions and that they will promptly file applications seeking authorizations on channels 11 and 35.

DATES: Effective December 12, 2024.

FOR FURTHER INFORMATION CONTACT: Joyce Bernstein, Media Bureau, at Joyce.Bernstein@fcc.gov.

SUPPLEMENTARY INFORMATION: The proposed rule was published at 89 FR 64851 on August 8, 2024. The Petitioners filed comments in support of the petition reaffirming their commitment to apply for channels 11 and 35.

The Bureau believes the public interest would be served by substituting channel 11 for channel 35 for KJTV-TV and channel 35 for channel 36 for KCBD. Gray previously requested the substitution of channel 36 for channels 11 and the Bureau granted the request. Accordingly, channel 11 is no longer allotted to Lubbock in the Table. Gray was also granted a construction permit to construct a facility on channel 36 at Lubbock, but was unable complete construction of the channel facility by the expiration date. According to the Petitioners, KJTV-TV's channel 35 tube transmitter is failing, replacement parts are not available, and the cost for SagamoreHill to replace the transmitter for KJTV-TV's 1000 kW facility is prohibitively expensive. The Petitioners' proposal will allow SagamoreHill to replace KJTV-TV's failing equipment with the equipment (i.e., antenna, transmitter, etc.) currently used by KCBD on channel 11, which is in good operating condition. Because Gray had already planned to invest in a new 1000 kW transmitter for KCBD on channel 36, it has the funds necessary to replace KJTV-TV's failing channel 35 transmitter and operate KCBD on channel 35. There would be no predicted loss area on channel 35 when compared to KCBD's previously-authorized channel 36 facility and the proposed channel 11 facility for KJTV-TV would result in no loss and instead provide additional service to approximately 8,000 persons. The Bureau finds that channel 11 can be substituted for channel 35 at Lubbock as proposed, in compliance with the principal community coverage requirements of section 73.618(a) of the rules,¹ at coordinates 33°-32′-29.9″ N and 101°-50′-13.6″ W, and also meets the technical requirements set forth in section 73.622(a) of the rules. We also find that channel 35 can be substituted for channel 36 at Lubbock as proposed, in compliance with the principal community coverage requirements of section 73.618(a) of the rules, at coordinates 33°-30′-08.3″ N and 101°-52′-21.3″ W, and also meets the technical requirements set forth in section 73.622(a) of the rules.

¹ 47 CFR 73.618(a).

This is a synopsis of the Commission's Report and Order, MB Docket No. 24-224; RM-11988; DA 24-1188, adopted and released on November 26, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding. The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Texas, by revising the entry for Lubbock to read as follows:

§ 73.622 Digital television table of allotments.

* * * * *

(j) * * *

Community | Channel Nos.
* * * * *
Texas
* * * * *
Lubbock | 11, 16, *25, 27, 31, 35
* * * * *

[FR Doc. 2024-29049 Filed 12-11-24; 8:45 am]

BILLING CODE 6712-01-P